DEPARTMENT OF COMMERCE

National Oceanic and Atmospheric Administration

RIN 0648 XB46

Fishing Capacity Reduction Program; Bering Sea/Aleutian Islands King and Tanner Crabs

AGENCY: National Marine Fisheries Service (NMFS), National Oceanic and Atmospheric Administration, Commerce.

ACTION: Notice of fee rate adjustment.

SUMMARY: NMFS issues this notice to increase the fee rates for the Bristol Bay red king and Aleutian Islands brown king crab reduction endorsement fisheries to repay the $17,129,957.23 and $6,380,837.19 sub-loans, respectively, of the $97,399,357.11 reduction loan to finance the Bering Sea/Aleutian Islands (BSAI) King and Tanner Crab fishing capacity reduction program.

DATES: The BSAI King and Tanner Crab fishing capacity reduction program fee rate increases will begin on September 5, 2007.

ADDRESSES: Send questions about this notice to Leo Erwin, Chief, Financial Services Division, National Marine Fisheries Service, 1315 East-West Highway, Silver Spring, MD 20910-3282.

FOR FURTHER INFORMATION CONTACT: Leo Erwin, (301) 713-2390.

SUPPLEMENTARY INFORMATION:

I. Background

Sections 312(b) through (e) of the Magnuson-Stevens Fishery Conservation and Management Act (16 U.S.C. 1861a(b) through (e)) generally authorizes fishing capacity reduction programs. In particular, section 312(d) authorizes industry fee systems for repaying reduction loans which finance reduction program costs.

Subpart L of 50 part 600 is the framework rule generally implementing section 312(b) through (e).

Sections 1111 and 1112 of the Merchant Marine Act, 1936 (46 App. U.S.C. 1279f and 1279g) generally authorized reduction loans.

The Consolidated Appropriations Act of 2001 (Public Law 106-554) directed the Secretary of Commerce to establish the $100 million fishing capacity reduction program in the BSAI king and tanner crab fishery. Congress amended the authorizing Act twice (Public Law 107 20 and Public Law 107 117), once to change the crab reduction program's funding from a $50 million appropriation and a $50 million loan to a $100 million loan and once to clarify provisions about crab fishery vessels. NMFS adopted the program's implementation rule as § 600.1103 in a subpart M of part 600.

NMFS published the BSAI crab reduction program's proposed implementation rule on December 12, 2002 (67 FR 76329) and its final rule on December 12, 2003 (68 FR 69331). On November 24, 2004, NMFS published a Federal Register notice (69 FR 68313) advising the public that beginning on December 27, 2004, NMFS would tender the crab reduction program's reduction payments to 25 accepted bidders. NMFS allocated the $97,399,357.11 million reduction loan to six reduction endorsement fisheries involved, as the following subamounts:

1. Bristol Bay red king, $17,129,957.23,

2. BSAI C. opilio and C. bairdi, $66,410,767.20,

3. Aleutian Islands brown king, $6,380,837.19,

4. Aleutian Islands red king, $237,588.04,

5. Pribilof red king and blue king, $1,571,216.35; and

6. St. Matthew blue king, $5,668,991.10.

NMFS published a fee payment collection system implementation rule on September 16, 2005 (70 FR 54653). Fee collection and payment began on October 17, 2005. On May 10, 2006, NMFS published a final rule to exempt any crab landed under the Community Development Quota (CDQ) Program from the fee regulations for the BSAI King and Tanner Crab Fishing Capacity Reduction Program (71 FR 27209). Anyone interested in the program's full implementation details should refer to these documents.

II. Purpose

The purpose of this notice is to adjust, in accordance with the framework rule's § 600.1013(b), the fee rates for the BSAI king and tanner crab fishery. Section 600.1013(b) directs NMFS to recalculate the fee rate that will be reasonably necessary to ensure reduction loan repayment within the specified 30 year term.

NMFS has determined that the current fee rates for the Bristol Bay red king and Aleutian Islands brown king reduction endorsement fisheries, 1.9 percent and 2.6 percent respectively, are inadequate to service these sub-loans. Therefore, NMFS is increasing the fee rates to 2.5 percent for the Bristol Bay red king crab reduction endorsement fishery, and to 5.0 percent for the Aleutian Islands brown king crab reduction endorsement fishery. NMFS has determined this action for the Bristol Bay red king crab reduction endorsement fishery is necessary to ensure timely loan repayment. NMFS does not expect the Aleutian Island brown king crab reduction endorsement fishery to remain on a timely repayment schedule even with this increase. However, fee rates are capped at 5.0 percent by statute.

To provide more accessible services, streamline collections, and save taxpayer dollars, fish buyers may disburse collected fee deposits to NMFS by using a secure Federal system on the Internet known as Pay.gov. Pay.gov enables fish buyers to use their checking accounts to electronically disburse their collected fee deposits to NMFS. Fish buyers who have access to the Internet should consider using this quick and easy collected fee disbursement method. Fish buyers may access Pay.gov by going directly to Pay.gov's Federal website at: http://www.pay.gov/paygov/.

Fish buyers who do not have access to the Internet or who simply do not wish to use the Pay.gov electronic system, may continue to disburse their collected fee deposits to us by sending their checks to our lockbox. Our lockbox's address is:

NOAA Fisheries BSAI Crab Buyback

P O Box 979060

St. Louis, MO 63197 9000

Fish buyers must not forget to include with their disbursements the fee collection report applicable to each disbursement. The fee collection report tells NMFS how much of the disbursement it must apply to each of the six reduction endorsement fisheries subamounts. Fish buyers using Pay.gov will find an electronic fee collection report form to receive information and accompany electronic disbursements. Fish buyers who do not use Pay.gov must include a hard copy fee collection report with each of their disbursements. Fish buyers not using Pay.gov may also access the NMFS website for an Excel spreadsheet version of the fee collection report at: http://www.nmfs.noaa.gov/mb/financial_services/buyback.htm.

III. Notice

The new rates for the Bristol Bay red king and Aleutian Islands brown king reduction endorsement fisheries will begin on September 5, 2007.

From and after this date, all fish sellers paying fees on the Bristol Bay red king and Aleutian Islands brown king reduction endorsement fisheries shall begin paying BSAI crab reduction loan program fees at the revised rates.

From and after this date, all fees received by NMFS for the Bristol Bay red king and Aleutian Islands brown king reduction endorsement fisheries shall be subject to the new fee rates, regardless of the applicable fee month.

Fee collection and submission shall follow previously established methods in § 600.1013 of the framework rule and in the final fee rule published in the Federal Register on September 16, 2005 (70 FR 54654).

The revised fees applicable to the BSAI crab reduction program's reduction endorsement fisheries are as follows:

REDUCTION ENDORSEMENT FISHERIES | CRAB RATIONALIZATION FISHERIES | CURRENT FEE RATE | NEW FEE RATE
Bristol Bay red king | BBR | 1.9% | 2.5%
BSAI C. opilio and C. bairdi | BSS, WBT, and EBT | 5.0% | 5.0%
Aleutian Islands brown king | EAG and WAG | 2.6% | 5.0%
Aleutian Islands red king | WAI | 5.0% | 5.0%
Pribilof red king and Pribilof blue king | PIK | 5.0% | 5.0%
St. Matthew Blue | SMB | 5.0% | 5.0%

Authority: The authority for this action is 5 U.S.C. 561 and 16 U.S.C. 1801 et seq.

Dated: July 31, 2007.
John Oliver,
Deputy Assistant Administrator for Operations, National Marine Fisheries Service.

[FR Doc. E7-15205 Filed 8-3-07; 8:45 am]

BILLING CODE 3510-22-S

>